DEPARTMENT OF COMMERCE

National Oceanic and Atmospheric Administration

[I.D. 122303A]

New England Fishery Management Council; Public Meetings

AGENCY: National Marine Fisheries Service (NMFS), National Oceanic and Atmospheric Administration (NOAA), Commerce.

ACTION: Notice of public meetings.

SUMMARY: The New England Fishery Management Council (Council) is scheduling public meetings of its Habitat, Groundfish and Scallop Oversight Committees and Scallop Advisory Panel in, January, 2004 to consider actions affecting New England fisheries in the exclusive economic zone (EEZ). Recommendations from these groups will be brought to the full Council for formal consideration and action, if appropriate.

DATES: The meetings will be held between January 13-16, 2004. See SUPPLEMENTARY INFORMATION for specific dates and times.

ADDRESSES: The meetings will be held in Narragansett, RI and Mansfield, MA. See SUPPLEMENTARY INFORMATION for specific locations.

Council address: New England Fishery Management Council, 50 Water Street, Mill 2, Newburyport, MA 01950.

FOR FURTHER INFORMATION CONTACT: Paul J. Howard, Executive Director, New England Fishery Management Council; (978) 465-0492.

SUPPLEMENTARY INFORMATION:

Meeting Dates and Agendas

Tuesday, January 13, 2004 at 9:30 a.m.-Habitat/MPA Committee Meeting.

Location: Holiday Inn, 31 Hampshire Street, Mansfield, MA; telephone: 508-339-2200.

The Committee will discuss upcoming Omnibus #2 Habitat Amendment including, but not limited to, the review of the Draft Timeline, Draft Notice of Intent, Draft Request for Proposals for Habitat Areas of Particular Concern and Dedicated Habitat Research Areas, and discussion of a draft Habitat Advisory Panel Process. The meeting will also include a recap of Council decisions in Amendment 10 to the Atlantic Sea Scallop Fishery Management Plan (FMP) and Amendment 13 to the Multispecies FMP and a discussion of the upcoming Herring Amendment 1 and Monkfish Amendment 2 Draft Supplementary Environmental Impact Statement (DSEIS). In addition, the Committee will be updated on the status of the American Oceans Campaign V. Daley lawsuit settlement agreement requirements and any NMFS essential fish habitat (EFH) Consultations of particular interest to the Council. Lastly, the Committee will be updated on recent marine protected areas (MPA) work by the formerly separate MPA Committee. The timeline for development of a Council policy on MPAs will be developed. There will be a possible closed session for the discussion and selection of habitat advisory panel.

Wednesday, January 14, 2004 at 9:30 a.m. and Thursday, January 15, 2004 at 8:30 a.m.-Groundfish Oversight Meeting.

Location: Holiday Inn, 31 Hampshire Street, Mansfield, MA; telephone: 508-339-2200.

The Groundfish Oversight Committee will meet to discuss Framework Action 39 and Framework Action 40 to the Northeast Multispecies FMP. On Wednesday, January 14, the Committee will discuss Framework 40. The Committee will develop recommended objectives and alternatives for this framework, which will be considered by the full Council at its January 27-29, 2004 meeting. It is tentatively planned that this framework will identify opportunities and restrictions for the use of Category B days-at-sea (DAS). Category B DAS are identified in Amendment 13 and, if this amendment is approved, will be allocated on May 1, 2004. Some possible uses for Category B DAS include Special Access Programs, experimental fisheries, or to target healthy stocks subject to additional restrictions that will be specified in Framework 40. The Committee may also consider other issues for this framework that have been raised during the review of Amendment 13, such as, but not limited to, issues related to steaming time. On Thursday, January 15, the Committee will discuss Framework 39. This framework will specify the requirements and restrictions for scallop vessels that are fishing in groundfish closed areas. This framework is necessary to implement the area management system proposed in Scallop Amendment 10. If the proposed rule implementing Amendment 13 is published prior to the Committee meeting, the Committee may also review the proposed rule in order to develop recommendations for comments by the Council.

Thursday, January 15, 2004 at 6:30 p.m.-Scallop Advisory Panel Meeting.

The Scallop Advisory Panel will develop recommendations on draft alternatives in Framework Adjustment 16/39, including measures to manage scallop fishery access in the groundfish closed areas during 2004B07. Implementation of Amendment 10 and interim/emergency action may also be discussed. Advisors may want to arrive early to attend a Groundfish Oversight Committee meeting in the morning and afternoon that will discuss Framework Adjustment 39 alternatives.

Friday, January 16, 2004 at 9 a.m.-Scallop Oversight Committee Meeting.

The Committee will review advice from the Scallop Advisory Panel and Scallop Plan Development Team to guide development of measures to manage scallop fishery access in the groundfish closed areas during 2004-07 (Framework Adjustment 16/39). They may identify recommendations for a preferred alternative. Implementation of Amendment 10 and interim/emergency action may also be discussed.

Although non-emergency issues not contained in this agenda may come before these groups for discussion, those issues may not be the subject of formal action during these meeting. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: December 23, 2003.
Richard W. Surdi,
Acting Director, Office of Sustainable Fisheries, National Marine Fisheries Service.

[FR Doc. E3-00660 Filed 12-29-03; 8:45 am]

BILLING CODE 3510-22-S